FEDERAL RESERVE SYSTEM

Agency Information Collection Activities: Announcement of Board Approval Under Delegated Authority and Submission to OMB

AGENCY: Board of Governors of the Federal Reserve System

SUMMARY: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer -- Michelle Long--Division of Research and Statistics, Board of Governors of the Federal Reserve System, Washington, DC 20551 (202-452-3829).

OMB Desk Officer -- Mark Menchik--Office of Information and Regulatory Affairs, Office of Management and Budget, New Executive Office Building, Room 10235, Washington, DC 20503, or e-mail to mmenchik@omb.eop.gov.

Final approval under OMB delegated authority of the extension for three years, with revision of the following reports:

1. Report title: Report of Transaction Accounts, Other Deposits and Vault Cash

Agency form number: FR 2900

OMB control number: 7100-0087

Frequency: Weekly, quarterly

Reporters: Depository institutions

Annual reporting hours: 586,166 hours

Estimated average hours per response: 3.50 hours

Number of respondents: 2,752 weekly and 6,093 quarterly

General description of report: This information collection is mandatory (12 U.S.C. 248(a), 461, 603, and 615) and is given confidential treatment (5 U.S.C. 552(b)(4)).

Abstract: Nonexempt institutions-defined as those with net transaction accounts greater than the exemption amount or with total deposits equal to or greater than the reduced reporting limit-file the fifteen-item FR 2900 weekly if their total deposits are equal to or greater than the nonexempt deposit cutoff and quarterly if their total deposits are less than the nonexempt deposit cutoff. U.S. branches and agencies of foreign banks and banking Edge and agreement corporations are required to submit FR 2900 data weekly regardless of their deposit size. These mandatory data are used by the Federal Reserve for administering Regulation D (Reserve Requirements of Depository Institutions) and for constructing, analyzing, and monitoring the monetary and reserve aggregates.

Current Actions: On May 8, 2006, the Federal Reserve published a notice soliciting comments on the proposed revisions to the Report of Transaction Accounts, Other Deposits and Vault Cash (71 FR 26763). The comment period ended on July 7, 2006. The Federal Reserve will implement the following revisions: (1) Raise the nonexempt deposit cutoff to $229.1 million (compared with an indexed level of $181.1 million) and set the reduced reporting limit at its indexed value of $1.206 billion beginning in September 2006; (2) calculate the nonexempt deposit cutoff and the reduced reporting limit using the sum of total transaction accounts, savings deposits, and small time deposits, rather than total deposits, beginning with the September 2007 panel shift; and (3) index the nonexempt deposit cutoff and the reduced reporting limit annually to 80 percent of the June-to-June growth in total transaction accounts, savings deposits, and small time deposits at all depository institutions. The actual values of the nonexempt deposit cutoff and the reduced reporting limit to be used in September 2007 will be announced under the usual schedule, in October 2006.

The Federal Reserve received one comment letter from a federal agency describing its use of these data. The revisions will be implemented as originally proposed.

2. Report title: Annual Report of Total Deposits and Reservable Liabilities

Agency form number: FR 2910a

OMB control number: 7100-0175

Frequency: Annually

Reporters: Depository institutions

Annual reporting hours: 5,317 hours

Estimated average hours per response: 45 to 60 minutes, depending on entity type

Number of respondents: 5,605

General description of report: This information collection is mandatory (12 U.S.C. 248(a) and 461) and is given confidential treatment (5 U.S.C. 552(b)(4)).

Abstract: Currently, the three-item FR 2910a is generally filed by exempt institutions whose net transaction accounts are greater than the exemption amount and whose total deposits (as shown on their December Call Report) are greater than the exemption amount but less than the reduced reporting limit. Respondents submit single-day data as of June 30. These mandatory data are used by the Federal Reserve for administering Regulation D (Reserve Requirements of Depository Institutions) and for constructing, analyzing, and monitoring the monetary and reserve aggregates.

Current Actions: On May 8, 2006, the Federal Reserve published a notice soliciting comments on the proposed revisions to the Annual Report of Total Deposits and Reservable Liabilities (71 FR 26763). The comment period ended on July 7, 2006. The Federal Reserve will implement the following revisions effective for the June 30, 2007, report date: (1) Replace data item 1, “Total Deposits,” with “Total Transaction Accounts, Savings Deposits, and Small Time Deposits;” (2) delete the parenthetical text from data item 1, “(If the amount reported for this item is less than or equal to $7.0 million, Items 2 and 2.a need not be completed);” (3) change the reporting form title from, “Annual Report of Total Deposits and Reservable Liabilities,” to “Annual Report of Deposits and Reservable Liabilities;” and (4) require depository institutions to submit either a positive or negative value in data item 2.a, “Net Transaction Accounts,” rather than reporting negative values as zero, as is currently required.

3. Report title: Allocation of Low Reserve Tranche and Reservable Liabilities Exemption

Agency form number: FR 2930/2930a

OMB control number: 7100-0088

Frequency: Annually and on occasion

Reporters: Depository institutions

Annual reporting hours: 40 hours

Estimated average hours per response: 15 minutes

Number of respondents: 160

General description of report: This information collection is mandatory (12 U.S.C. 248(a), 461, 603, and 615) and is given confidential treatment (5 U.S.C. 552(b)(4)).

Abstract: The FR 2930 and FR 2930a collect data on the allocation of the low reserve tranche and reservable liabilities exemption amount for depository institutions having offices (or groups of offices) that file separate FR 2900 deposit reports. The FR 2930 is filed by U.S. branches and agencies of foreign banks and banking Edge and agreement corporations; the FR 2930a is filed by other types of depository institutions. Both reporting forms collect the same data. However, the instructions and explanatory information differ. These mandatory data are used to calculate the reserve requirement of an institution that submits separate FR-2900 data for two or more offices, that institution is required to allocate, using the FR 2930, the low reserve tranche and the exemption among those offices.

Current Actions: On May 8, 2006, the Federal Reserve published a notice soliciting comments on the proposed revisions to the Allocation of Low Reserve Tranche and Reservable Liabilities Exemption (71 FR 26763). The comment period ended on July 7, 2006. The Federal Reserve will combine the FR 2930 and FR 2930a into one reporting form (FR 2930) that would be used by any entity type (both foreign-related and domestic institutions). The instructions for the FR 2930 reporting form will be modified to reflect this change. Both of these revisions will be effective September 30, 2006.

Final approval under OMB delegated authority of the extension for three years, without revision of the following report:

Report title: Report of Foreign (Non-U.S.) Currency Deposits

Agency form number: FR 2915

OMB control number: 7100-0237

Frequency: Quarterly

Reporters: Depository institutions

Annual reporting hours: 214 hours

Estimated average hours per response: 30 minutes

Number of respondents: 107

General description of report: This information collection is mandatory (12 U.S.C. 248(a)(2), and 347(d)) and is given confidential treatment (5 U.S.C. 552(b)(4)).

Abstract: The FR 2915 collects seven-day averages of the amounts outstanding for foreign (non-U.S.) currency-denominated deposits held at U.S. offices of depository institutions, converted to U.S. dollars and included in the institution's FR 2900 data. Foreign currency deposits are subject to reserve requirements and, therefore, are included in the FR 2900 data submission. All weekly and quarterly FR 2900 respondents offering foreign currency deposits file the six-item FR 2915 quarterly, on the same reporting schedule as quarterly FR 2900 respondents. Data collected on the FR 2915 are mainly used in the construction of the monetary aggregates. These data are included in deposit data submitted on the FR 2900 for reserve requirement purposes, but they are not included in the monetary aggregates. The FR 2915 is the only source of data on such deposits.

Board of Governors of the Federal Reserve System, July 19, 2006.
Robert deV. Frierson,
Deputy Secretary of the Board.

[FR Doc. E6-11704 Filed 7-21-06; 8:45 am]

BILLING CODE 6210-01-S